DEPARTMENT OF LABOR

Employment and Training Administration

Proposed Collection; Comment Request

ACTION: Notice.

SUMMARY: The Department of Labor, as part of its continuing effort to reduce paperwork and respondent burden, conducts a preclearance consultation program to provide the general public and other Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration (ETA) is soliciting comments concerning the proposed collection of information on the Reemployment and Eligibility Assessment (REA) program. ETA is seeking Office of Management and Budget (OMB) approval under the PRA95 to establish a system to collect data at the state level on REA workload counts and outcomes.

DATES: Written comments must be submitted to the office listed in the addresses section below on or before October 24, 2005.

ADDRESSES: Diane Wood, U.S. Department of Labor, Employment and Training Administration, Room S4231, 200 Constitution Avenue NW., Washington, DC 20210, Fax (202) 693-3975; e-mail: wood.diane@dol.gov.

FOR FURTHER INFORMATION CONTACT: Diane Wood, telephone: (202) 693-3212 (this is not a toll-free number); Fax (202) 693-3975, e-mail: wood.diane@dol.gov.

SUPPLEMENTARY INFORMATION:

I. Background

Funds were awarded to 21 states in FY 2005 to implement REA initiatives. The REA guidelines require that these funds be used to conduct in-person assessments in the One-Stop Career Centers. The REA must include a UI continued eligibility review, the provision of labor market information, development of a work-search plan and referral to reemployment services and/or training, as appropriate. The guidelines require that participation exclude those claimants who have a specific return-to-work date or who secure employment solely through a union hiring hall.

II. Review Focus

The Department of Labor is particularly interested in comments which:

• Assess whether the proposed collection of information is necessary for evaluation of the REA program, including whether the information will have practical utility;

• Evaluate the accuracy of ETA's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

ETA proposes to require state workforce agencies (SWAs) that implement REA initiatives to report quarterly data for REA grants beginning in FY 2006. This will provide the only continuous source of information about the effectiveness of REAs and is necessary to monitor the program. SWAs submitting proposals for FY 2006 funding will be advised of the reporting requirements and report formats prior to the development of their proposal.

The Department proposes collecting the following data elements for Reemployment and Eligibility Assessments (REAs). The quarterly activity report will be due at the end of each quarter and will reflect the REAs scheduled during the report quarter.

The ETA 9060—Reemployment and Eligibility Assessments Workloads report includes the following 23 elements.

1. Number of claimants scheduled for their first REA—The sum of all claimants who were scheduled for their first REA of their current benefit year during the report quarter.

2. Number of REAs scheduled—This includes all REAs for which an official notice was sent to the claimant instructing them to report to the One-Stop Career Center. It includes both those scheduled REAs for which the claimant reported as directed and those scheduled REAs for which the claimant failed to report. It does not include those REAs which the claimant cancelled in advance and which were rescheduled with no disqualification.

3. Number of REAs completed—This number includes all completed REAs to which the claimant reported as directed. It includes REAs that were conducted for claimants who were rescheduled for an REA after missing an appointment.

4. Number of claimants reporting to reemployment services or training. For each REA, claimants should be reported in only one service category in items number 5, 6, and 7 below, based on the highest level of services received with core services as the lowest level and training as the highest. Core services, intensive services and training are defined in accordance with state definitions consistent with the Wagner-Peyser Act, the Workforce Investment Act or other applicable legislation.

5. Number of claimants reporting to core reemployment services as a result of an REA.

6. Number of claimants reporting to intensive reemployment services as a result of an REA.

7. Number of claimants reporting to training as a result of an REA.

8. Number of completed REAs resulting in a disualification or established overpayments. This number includes all claimants for whom a nonmonetary determination has been issued holding them ineligible under any provision of state law. Claimants may be reported in more than one of the following categories:

9. Number of completed REAs resulting in a disqualification for a separation issue.

10. Number of completed REAs resulting in a disqualification for an able and available issue.

11. Number of completed REAs resulting in a disqualification for a disqualifying or deductible issue.

12. Number of completed REAs resulting in a disqualification for a refusal of suitable work issue.

13. Number of completed REAs resulting in a disqualification for an issue not covered in categories #9-12.

14. Number of completed REAs resulting in a establishment of an overpayment.

15. Dollar amount of overpayments established in item #14.

16. Number of REAs for which the claimant failed to report.

This number includes those claimants who were sent an official notice to report for an REA, and who did not report as directed. It includes claimants who failed to report and who were subsequently rescheduled for an REA at a different time. It does not include REAs that were cancelled in advance by the claimant and for which no disqualification was issued.

17. Number of REAs for which the claimant failed to report (reported in #16) and which were rescheduled without disqualification.

18. Number of REAs for which the claimant failed to report (reported in #16) which resulted in the claimant being disqualified for failure to meet a reporting requirement.

19. Number of REAs for which the claimant failed to report (reported in #16) which resulted in the claimant being disqualified for an issue other than failure to meet a reporting requirement.

20. Number of overpayments established as a result of failure to report (reported in #16).

21. Dollar amount of overpayments established as a result of failure to report (reported in #20).

22. Number of REAs for which the claimant failed to report (reported in #16) which did not result in either a rescheduling or a disqualification because the claimant stopped claiming UI.

23. Number of claimants reported in #22 who were identified as having returned to work (if available).

The ETA 9061—Reemployment and Eligibility Assessments Outcomes report includes the following 16 elements. It will be submitted for the following two groups of claimants who filed a claim and established a UI benefit year in the report quarter. The outcome report would be due in the fifth quarter following the report quarter, after the benefit year has ended. As part of a state's submission for an REA grant, a description of how the state will select a comparison group, group 1 below, will be required and scored.

1. Claimants in a state-defined comparison group. This group should consist of the universe of claimants who were in the target group from which REA participants could have been selected for an REA but were not selected. The claimants in this group should have characteristics as similar as possible to the selected REA participant group. The following data elements will be collected:

a. Number of claimants who filed a claim and established a UI benefit year in the report quarter.

b. Total weeks compensated. This number is the total weeks of benefits paid for those claimants reports in item a. above during their respective benefit years. This number includes weeks of partial payments.

c. Total benefits paid. This number is the total dollar amount of benefits paid to those claimants reported in item a. above during their respective benefit years. This number includes weeks of partial payments.

d. Number of disqualifications for claimants in the group. This may include multiple disqualifications for individuals.

e. The number of claimants exhausting benefits.

f. Number of claimants reemployed within the benefit year, based of the National or State Directories of New Hires.

g. For those reemployed, average time from date of initial claim to date of reemployment.

h. The amount of overpayments established.

2. Claimants who were scheduled for at least one REA during the benefit year.

a. Number of claimants who filed a claim and established a UI benefit year in the report quarter.

b. Total weeks compensated. This number is the total weeks of benefits paid for those claimants reported in item a. above during their respective benefit years. This number includes weeks of partial payments.

c. Total benefits paid. This number is the total dollar amount of benefits paid to those claimants reported in item a. above during their respective benefit years. This number includes weeks of partial payments.

d. Number of disqualifications for claimants in the group. This may include multiple disqualifications for individuals.

e. The number of claimants exhausting benefits.

f. Number of claimants reemployed within the benefit year, based on the National or State Directories of New Hires.

g. For those reemployed, average time from date of initial claim to date of reemployment.

h. The amount of overpayments established.

Due Dates for REA Reports

Reporting of the ETA 9060 will begin one year prior to the ETA 9061. States will electronically transmit the reports to ETA according to the following schedule. All workload counts are due on the 20th day of the second month following the end of the calendar quarter to coincide with other ETA reporting requirements. Outcomes reports are due on the same calendar quarter schedule in the following year.

ETA 9060—Reemployment and Eligibility Assessment Workload
Quarter in which the REA is scheduled | Report due to ETA by
1st quarter (January to March) | May 20.
2nd quarter (April to June) | August 20.
3rd quarter (July to September) | November 20.
4th quarter (October to December) | February 20.

ETA 9061—Reemployment and Eligibility Assessment Outcomes
Quarter in which the benefit years begin | Report due to ETA by
1st quarter (January to March) | May 20.
2nd quarter (April to June) | August 20.
3rd quarter (July to September) | November 20.
4th quarter (October to December) | February 20.

ETA will provide resources to the states for startup and operational costs for the first year of data collection as described in the burden cost sections below.

Type of Review: New.

Agency: Employment and Training Administration.

Title: Reemployment and Eligibility Assessments.

Agency Number: ETA 9060—Reemployment and Eligibility Assessments Workload and ETA 9061—Reemployment and Eligibility Assessments outcomes.

Record Keeping: States are required to follow their state laws regarding public records retention for this proposed data collection system.

Affected Public: State Workforce Agencies (SWAs).

Total Respondents: 53 state agencies.

Frequency: Quarterly.

Total Responses: 424.

Average Time per Responses: SWA staff .5 hours.

Estimated Total Burden Hours: 2,120 hours.

Total Burden Cost (capital/startup): $371,000 53 SWAs at $7,000 each.

Total Burden Cost (operating/maintaining): $79,000 (annual) 53 SWAs at $1,500 per SWA.

Comments submitted in response to this comment request will be summarized and/or included in the request for Office of Management and Budget approval of the information collection request; they will also become a matter of public record.

Dated: August 17, 2005.
Emily Stover DeRocco,
Assistant Secretary, Employment and Training Administration.

[FR Doc. 05-16906 Filed 8-23-05; 8:45 am]

BILLING CODE 4510-30-M